SMALL BUSINESS ADMINISTRATION

CommunityExpress Pilot Program

AGENCY: U.S. Small Business Administration (SBA).

ACTION: Notice of Pilot Program extension.

SUMMARY: This notice announces the extension of SBA's CommunityExpress Pilot Program until May 31, 2006. This extension will allow time for SBA to complete its decision making regarding potential modifications and enhancements to the Program.

DATES: The CommunityExpress Pilot Program is extended under this notice until May 31, 2006.

FOR FURTHER INFORMATION CONTACT: Charles Thomas, Office of Financial Assistance, U.S. Small Business Administration, 409 Third Street, SW., Washington, DC 20416; Telephone (202) 205-6490; charles.thomas@sba.gov.

SUPPLEMENTARY INFORMATION: The CommunityExpress Pilot Program was established in 1999 as a subprogram of the Agency's SBAExpress Pilot Program. Lenders approved for participation in CommunityExpress are authorized to use the expedited loan processing procedures in place for the SBAExpress Pilot Program, but the loans approved under this Program must be to distressed or underserved markets. To encourage lenders to make these loans, SBA provides its standard 75-85 percent guaranty, which contrasts to the 50 percent guaranty the Agency provides under SBAExpress. However, under CommunityExpress, participating lenders must arrange and, when necessary, pay for appropriate technical assistance for any borrowers under the program. Maximum loan amounts under this Program are limited to $250,000. SBA previously extended CommunityExpress until November 30, 2005 to consider possible changes and enhancements to the Program (70 FR 56962).

The further extension of this Program until May 31, 2006, will allow SBA to more fully evaluate the results and impact of the Program and to consider possible changes and enhancements to the Program. It will also allow SBA to further consult with its lending partners and the small business community about the Program.

(Authority: 13 CFR 120.3)

James E. Rivera,
Associate Administrator for Financial Assistance.

[FR Doc. E5-6546 Filed 11-25-05; 8:45 am]

BILLING CODE 8025-01-P